DEPARTMENT OF EDUCATION

Federal Interagency Coordinating Council Meeting; Correction

AGENCY: Department of Education

ACTION: Correction notice.

SUMMARY: On May 13, 2002, a notice of a public meeting of the Federal Interagency Coordinating Council (FICC) was published in the Federal Register (67 FR 32022). This notice corrects the last paragraph in the SUMMARY s ection, as well as, the Date and Time and ADDRESSES section that were included in the notice. In the last paragraph of the SUMMARY section the published date of the FICC committee meetings was June 12, 2002, and has been changed to June 25, 2002. The published date, time, and location for the FICC meeting was Thursday, June 13, 2002, from 9 a.m. to 4:30 p.m. in the U.S. Department of Education, Departmental Auditorium, 400 Maryland Avenue, SW., Washington, DC. It is corrected to read, Wednesday, June 26, 2002, from 9 a.m. to 4:30 p.m. in the U.S. Department of Health and Human Services, 330 Independence Avenue, SW., Room 5051, Washington, DC.

FOR FURTHER INFORMATION CONTACT: Bobbi Stettner-Eaton or Obral Vance, U.S. Department of Education, 330 C Street, SW., Room 3090, Switzer Building, Washington, DC 20202. Telephone: (202) 205-5507 (press 3). Individuals who use a telecommunications device for the deaf (TDD) may call (202) 205-5637.

Individuals who need accommodations for a disability in order to attend the meeting (i.e., interpreting services, assistive listening devices, materials in alternative format) should notify Obral Vance at (202) 205-5507 (press 3) or (202) 205-5637 (TDD) ten days in advance of the meeting. The meeting location is accessible to individuals with disabilities.

Electronic Access To This Document

You may view this notice as well as all other Department of Education documents published in the Federal Register, in text or Adobe Portable Document Format (PDF) on the Internet at the following site: www.ed.gov.legislative/FedRegister.

To use PDF you must have Adobe Acrobat Reader which is available free at this site. If you have questions about using PDF, call the U.S. Government Printing Office (GPO), toll free, at 1-888-293-6498; or in the Washington, DC area at (202) 512-1530.

Robert H. Pasternack,
Assistant Secretary for Special Education and Rebabilitative Services.

[FR Doc. 02-13569 Filed 5-29-02; 8:45 am]

BILLING CODE 4000-01-M